DEPARTMENT OF ENERGY

Federal Energy Regulatory Commission

[Project No. 14655-000]

Cat Creek Energy, LLC; Notice of Preliminary Permit Application Accepted for Filing and Soliciting Comments, Motions To Intervene, and Competing Applications

On December 12, 2014, Cat Creek Energy, LLC (Cat Creek) filed an application for a preliminary permit, pursuant to section 4(f) of the Federal Power Act, proposing to study the feasibility of the Cat Creek Energy Generation Facility Pumped Storage Hydroelectric Project (Cat Creek project). The project would be located at the US Bureau of Reclamation's (Reclamation) Anderson Ranch reservoir ¹ on the South Fork of the Boise River near Mountain Home in Elmore County, Idaho.

¹ On November 24, 2014, Owyhee Hydro, LLC also filed a preliminary permit to use the Anderson Ranch reservoir as a lower reservoir for the Anderson Ranch Pumped Storage Hydroelectric Project (P-14648), and thus may be competing for the same water resource.

The sole purpose of a preliminary permit, if issued, is to grant the permit holder priority to file a license application during the permit term. A preliminary permit does not authorize the permit holder to perform any land-disturbing activities or otherwise enter upon lands or waters owned by others without the owners' express permission.

On December 19, 2014, the Commission asked Reclamation to confirm that non-federal development is authorized at the Anderson Ranch site. On January 30, 2015, Reclamation responded stating that it retains jurisdiction over hydropower development at the Anderson Ranch dam, reservoir, and powerhouse, which are part of Reclamation's Boise Project. On June 8, 2015, the Commission responded and agreed with Reclamation's jurisdictional decision over hydropower development at the Boise Project's Anderson Ranch dam, powerhouse, and reservoir. However, the Commission would retain jurisdiction for hydropower facilities that would be located outside of Reclamation's development. Thus, an entity seeking to build a hydropower project that would use Reclamation's Boise Project facilities would need to obtain a lease of power privilege from Reclamation, but it also would need to obtain a license from the Commission for those facilities of the hydropower project that are not under Reclamation's jurisdiction.

On August 21, 2015, Cat Creek filed minor revisions to the original Cat Creek project permit application. The revised Cat Creek project would use the existing Anderson Ranch reservoir, and would consist of the following new facilities: (1) A 3.4-mile-long, 80-foot-high earthen dam; (2) a 38,000-acre-foot impoundment as an upper reservoir; (3) two, 5,600-foot-long, 22-foot-diameter steel penstocks; (4) two, 100-foot-diameter concrete silos; (5) two, 200-megawatt vertical Francis turbines/generators; (6) an 8.0-mile-long, 230- kilovolt transmission line interconnecting with the existing Bonneville Power Administration Dixie Substation; (7) an approximately 3.6-mile-long access road; and (8) appurtenant facilities. The estimated annual generation of the Cat Creek project would be 1,401.6 gigawatt-hours.

Applicant Contact for the Cat Creek project: Nicholas Josten, Cat Creek Energy, LLC, 1989 South 1875 East, Gooding, ID 83330; phone: (208) 954-5090.

FERC Contact: Karen Sughrue; phone: (202) 502-8556.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14655-000.

More information about this project, including a copy of the application, can be viewed or printed on the “eLibrary” link of Commission's Web site at http://www.ferc.gov/docs-filing/elibrary.asp. Enter the docket number (P-14655) in the docket number field to access the document. For assistance, contact FERC Online Support.

Dated: August 28, 2015.
Kimberly D. Bose,
Secretary.

[FR Doc. 2015-21985 Filed 9-3-15; 8:45 am]

BILLING CODE 6717-01-P